DEPARTMENT OF ENERGY

Federal Energy Regulatory Commission

[Docket No. RP99-326-002]

Tennessee Gas Pipeline Company; Notice of Compliance Filing

August 16, 2000.

Take notice that on August 14, 2000, Tennessee Gas Pipeline Company (Tennessee), tendered for filing its report of activities during the first year of service under Rate Schedule PAL, Tennessee's parking and loaning service.

Any person desiring to protest said filing should file a protest with the Federal Energy Regulatory Commission, 888 First Street, N.E., Washington, D.C. 20426, in accordance with Section 385.211 of the Commission's Rules and Regulations. All such protests must be filed on or before August 23, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-21296 Filed 8-21-00; 8:45 am]

BILLING CODE 6717-01-M